DEPARTMENT OF ENERGY

Federal Energy Regulatory Commission

Notice of Effectiveness of Exempt Wholesale Generator Status

| Docket Nos.
New Market Solar ProjectCo 1, LLC | EG22-48-000
New Market Solar ProjectCo 2, LLC | EG22-49-000
Sapphire Sky Wind Energy LLC | EG22-50-000
Waiawa Solar Power LLC | EG22-51-000
Highland Solar Transco Interconnection LLC | EG22-52-000
Madero Grid, LLC | EG22-53-000
Ignacio Grid, LLC | EG22-54-000
Rabbitbrush Solar, LLC | EG22-55-000
Corazon Energy Services, LLC | EG22-56-000
Panorama Wind, LLC | EG22-57-000
Victoria WLE, LP | EG22-58-000
Brookfield White Pine Hydro LLC | EG22-59-000
Number Three Wind LLC | EG22-60-000

Take notice that during the month of April 2022, the status of the above-captioned entities as Exempt Wholesale Generators became effective by operation of the Commission's regulations. 18 CFR 366.7(a) (2021).

Dated: May 9, 2022.
Debbie-Anne A. Reese,
Deputy Secretary.

[FR Doc. 2022-10348 Filed 5-12-22; 8:45 am]

BILLING CODE 6717-01-P